INTER-AMERICAN FOUNDATION

Sunshine Act Meetings

TIME AND DATE: December 12, 2011; 9 a.m.-1:45 p.m.

PLACE: 901 N. Stuart Street, Tenth Floor, Arlington, Virginia 22203.

STATUS: Open session.

Matters To Be Considered

• Approval of the Minutes of the September 26, 2011, Meeting of the Board of Directors.

• Advisory Council.

• Management Report.

• Next Meetings.

Portions To Be Open to the Public

• Approval of the Minutes of the September 26, 2011, Meeting of the Board of Directors.

• Advisory Council.

• Management Report.

• Next Meetings.

Portions To Be Closed to the Public

• None.

CONTACT PERSON FOR MORE INFORMATION: Mara Quintero, Associate General Counsel, (703) 306-0002.

Mara Quintero,
Associate General Counsel.

[FR Doc. 2011-30517 Filed 11-22-11; 4:15 pm]

BILLING CODE 7025-01-P